DEPARTMENT OF HEALTH AND HUMAN SERVICES

Centers for Disease Control and Prevention

Disease, Disability, and Injury Prevention and Control Special Emphasis Panel (SEP): Human Immunodeficiency Virus (HIV) Projects for Community-Based Organizations Targeting Young Men of Color Who Have Sex With Other Men (YMSM of Color), PA#01163

In accordance with section 10(a)(2) of the Federal Advisory Committee Act (Pub. L. 92-463), the Centers for Disease Control and Prevention (CDC) announces the following meeting.

Name: Disease, Disability, and Injury Prevention and Control Special Emphasis Panel (SEP):Human Immunodeficiency Virus (HIV) Projects for Community-Based Organizations Targeting Young Men of Color Who Have Sex With Other Men (YMSM of Color), PA#01163, meeting.

Times and Date: 3 p.m.-6 p.m., August 9, 2001 (Open), 8 a.m.-5 p.m., August 10, 2001 (Closed), 8 a.m.-5 p.m., August 11, 2001 (Closed), 8 a.m.-5 p.m., August 12, 2001 (Closed).

Place: The Westin Atlanta North at Perimeter, 7 Concourse Parkway, Atlanta, GA 30328.

Status: Portions of the meeting will be closed to the public in accordance with provisions set forth in section 552b(c)(4) and (6), Title 5 U.S.C., and the Determination of the Deputy Director for Program Management, CDC, pursuant to Public Law 92-463.

Matters To Be Discussed: The meeting will include the review, discussion, and evaluation of applications received in response to Program Announcement 01163.

Contact Person for More Information: Elizabeth A. Wolfe, Prevention Support Office, National Center for HIV, STD, and TB Prevention, CDC, Corporate Square Office Park, 8 Corporate Square Boulevard, M/S E07, Atlanta, Georgia 30329, telephone 404/639-8025.

The Director, Management Analysis and Services office has been delegated the authority to sign Federal Register notices pertaining to announcements of meetings and other committee management activities, for both the Centers for Disease Control and Prevention and the Agency for Toxic Substances and Disease Registry.

Dated: July 19, 2001.
John C. Burckhardt,
Acting Director, Management Analysis and Services Office, Centers for Disease Control and Prevention CDC.

[FR Doc. 01-18464 Filed 7-24-01; 8:45 am]

BILLING CODE 4163-18-P